SECURITIES AND EXCHANGE COMMISSION

Proposed Collection; Comment Request

Upon written request, copies available from: Securities and Exchange Commission, Office of Filings and Information Services, Washington, DC 20549.

Extension: Form N-Q; SEC File No. 270-519; OMB Control No. 3235-0578.

Notice is hereby given that pursuant to the Paperwork Reduction Act of 1995 (44 U.S.C. 3501 et seq.) the Securities and Exchange Commission (the “Commission”) is soliciting comments on the collections of information summarized below. The Commission plans to submit these existing collections of information to the Office of Management and Budget (“OMB”) for extension and approval.

• Form N-Q—Quarterly Schedule of Portfolio Holdings of Registered Management Investment Company.

Form N-Q (17 CFR 249.332 and 274.130) is a reporting form under Sections 13 and 15(d) of the Securities Exchange Act of 1934 (15 U.S.C. 78a et seq.), in addition to the Investment Company Act of 1940 (15 U.S.C. 80a-1 et seq.) (“Investment Company Act”) that requires a fund to file its complete portfolio schedule as of the end of its first and third fiscal quarters with the Commission. Form N-Q contains collection of information requirements. The respondents to this information collection will be management investment companies subject to Rule 30e-1 under the Investment Company Act registering with the Commission on Forms N-1A, N-2, or N-3. Approximately 3,237 entities, including 8,963 portfolios are required to file Form N-Q, which is estimated to require an average of 21 hours per portfolio per year to complete. The estimated annual burden of complying with the filing requirement is approximately 188,223 hours. The estimates of average burden hours are made solely for the purposes of the Paperwork Reduction Act of 1995 (44 U.S.C. 3501 et seq.) and are not derived from a comprehensive or even representative survey or study of the cost of Commission rules and forms. The collection of information under Form N-Q is mandatory. The information provided by the Form is not kept confidential. An agency may not conduct or sponsor, and a person is not required to respond to, a collection of information unless it displays a currently valid control number.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Securities and Exchange Commission, C/O Shirley Martinson, 6432 General Green Way, Alexandria, VA 22312 or send an e-mail to: PRA_Mailbox@sec.gov.

Dated: November 27, 2006.
Nancy M. Morris,
Secretary.

[FR Doc. E6-20575 Filed 12-5-06; 8:45 am]

BILLING CODE 8011-01-P